POSTAL SERVICE

Privacy Act of 1974; System of Records

AGENCY: Postal Service™.

ACTION: Notice of modification to existing systems of records.

SUMMARY: The United States Postal Service® (Postal Service) is proposing to modify certain Customer Privacy Act Systems of Records to support the administration of United States customs, export control, and export statistics laws with regards to mailpieces exported from the United States.

DATES: These revisions will become effective without further notice on June 23, 2017 unless comments received on or before that date result in a contrary determination.

ADDRESSES: Comments may be mailed or delivered to the Privacy and Records Office, United States Postal Service, 475 L'Enfant Plaza SW., Room 1P830, Washington, DC 20260-1101. Copies of all written comments will be available at this address for public inspection and photocopying between 8 a.m. and 4 p.m., Monday through Friday.

FOR FURTHER INFORMATION CONTACT: Janine Castorina, Chief Privacy and Records Management Officer, Privacy and Records Office, 202-268-3069 or privacy@usps.gov.

SUPPLEMENTARY INFORMATION: This notice is in accordance with the Privacy Act requirement that agencies publish their systems of records in the Federal Register when there is a revision, change, or addition, or when the agency establishes a new system of records. The Postal Service™ has determined that two Customer Privacy Act Systems of Records (SORs) should be revised to modify categories of records in the system, purposes, and routine uses of records in the system.

The Postal Service is proposing minor modifications to SORs 810.200 and 900.000. Certain of the SORs' stated categories of records in the system, purposes, and routine uses, as currently written, suggest that certain information is collected and shared only for enforcement of U.S. customs, export control, and export statistics laws, and not necessarily for other activities that relate to the administration of those laws. Compliance, licensing, and other agency personnel besides law enforcement personnel may legitimately access information from these SORs in order to make informed decisions that help the Postal Service provide effective customer service and maintain mail security. Therefore, the SORs are being revised to more clearly indicate the appropriate range of these legitimate disclosures. In addition, routine uses for disclosure to customs authorities and foreign postal operators are being revised to clarify the purposes for such disclosures. SOR 810.200 is also being revised to clarify the applicability of various routine uses and more closely align purposes between the two SORs.

Finally, administrative updates pertaining to the system manager for SORs 810.200 and 900.000 have been made.

Pursuant to 5 U.S.C. 552a(e)(11), interested persons are invited to submit written data, views, or arguments on this proposal. A report of the proposed modifications has been sent to Congress and to the Office of Management and Budget for their evaluations. The Postal Service does not expect this amended system of records to have any adverse effect on individual privacy rights.

Accordingly, for the reasons stated, the Postal Service proposes changes in the existing system of records as follows:

USPS 810.200

SYSTEM NAME:

www.usps.com Ordering, Payment, and Fulfillment

* * * * *

PURPOSE:

* * * * *

[Change items 6 and 7 to read as follows:]

6. To satisfy reporting requirements for customs purposes.

7. To support the administration and enforcement of U.S. customs, export control, and export statistics laws.

* * * * *

ROUTINE USES OF RECORDS IN THE SYSTEM, INCLUDING CATEGORIES OF USERS AND THE PURPOSES OF SUCH USES:

[Change to read as follows:]

Standard routine uses 1. through 7., 10., and 11. apply. In addition:

a. Customs declaration records may be disclosed to domestic and foreign customs agencies and postal operators, as well as intermediary companies involved in electronic data exchanges, for the purpose of facilitating carriage, security protocols, foreign or domestic customs processing, payment to operators, or delivery.

b. Records may be disclosed to the Office of Foreign Assets Control, the Bureau of Industry and Security, Customs and Border Protection, and other government authorities for the purpose of administering and enforcing export control laws, rules, and policies, including 50 U.S.C. 1702.

c. Customs declaration records may be disclosed to the U.S. Census Bureau for export statistical purposes pursuant to 13 U.S.C. 301-307.

* * * * *

RETENTION AND DISPOSAL:

[Change to read as follows:]

1. Records related to mailing online and online tracking or confirmation services supporting a customer order are retained for up to 30 days from completion of fulfillment of the order, unless retained longer by request of the customer.

2. Records related to shipping services and domestic and international labels are retained up to 90 days.

3. Delivery Confirmation and return receipt records are retained for 6 months.

4. Signature Confirmation records are retained for 1 year.

5. ACH records are retained for up to 2 years.

6. Customs declaration records stored in electronic data systems are retained 5 years, and then purged according to the requirement of domestic and foreign customs services. Other hard-copy customs declaration records are retained 30 days.

7. Other records related to shipping services and domestic and international labels are retained up to 90 days.

8. Other customer records are retained for 3 years after the customer relationship ends.

9. Online user information may be retained for 12 months.

* * * * *

SYSTEM MANAGER(S) AND ADDRESS:

[Change to read as follows:]

Chief Customer and Marketing Officer and Executive Vice President, United States Postal Service, 475 L'Enfant Plaza SW., Washington, DC 20260.

* * * * *

USPS 900.000

SYSTEM NAME:

USPS International Services

* * * * *

CATEGORIES OF RECORDS IN THE SYSTEM:

[Change to read as follows:]

1. Customer information: Customer name, customer IDs, customer signature, date and place of birth, signed certification regarding sender or recipient identity, and contact information.

* * * * *

3. Information pertaining to mailings: Information supplied through customs declaration forms: Contents, product information, quantity, order number, volume, destination, weight, country of origin, value, price, Harmonized Commodity Description and Coding System (HS) Tariff number, product classification information, license or certificate number, Automated Export System (AES) internal transaction number or exemption, signature, date, postage and fees, insurance information, type of mailing, and applicable citation or legend required by the Foreign Trade Regulations.

* * * * *

PURPOSE(S):

* * * * *

[Delete item 5, and change item 4 to read as follows:]

4. To support the administration and enforcement of U.S. customs, export control, and export statistics laws.

* * * * *

ROUTINE USES OF RECORDS IN THE SYSTEM, INCLUDING CATEGORIES OF USERS AND THE PURPOSES OF SUCH USES:

* * * * *

[Change a. and b. to read as follows:]

a. Customs declaration records may be disclosed to domestic and foreign customs agencies and postal operators, as well as intermediary companies involved in electronic data exchanges, for the purpose of facilitating carriage, security protocols, foreign or domestic customs processing, payment to operators, or delivery.

b. Records may be disclosed to the Office of Foreign Assets Control, the Bureau of Industry and Security, Customs and Border Protection, and other government authorities for the purpose of administering and enforcing export control laws, rules, and policies, including 50 U.S.C. 1702.

* * * * *

SYSTEM MANAGER(S) AND ADDRESS:

[Change to read as follows:]

Chief Customer and Marketing Officer and Executive Vice President, United States Postal Service, 475 L'Enfant Plaza SW., Washington, DC 20260.

* * * * *

Stanley F. Mires,
Attorney, Federal Compliance.

[FR Doc. 2017-10573 Filed 5-23-17; 8:45 am]

BILLING CODE 7710-12-P